INTERNATIONAL TRADE COMMISSION

[Inv. Nos. TA-131-29 and TA-2104-12]

U.S.-Thailand Free Trade Agreement: Advice Concerning the Probable Economic Effect of Providing Duty-Free Treatment for Imports

AGENCY: International Trade Commission.

ACTION: Institution of investigations and scheduling of hearing.

EFFECTIVE DATE: March 3, 2004.

SUMMARY: Following receipt on February 19, 2004, of a request from the United States Trade Representative (USTR), the Commission instituted investigation Nos. TA-131-29 and TA-2104-12, U.S.-Thailand Free Trade Agreement: Advice Concerning the Probable Economic Effect of Providing Duty-Free Treatment for Imports, under section 131 of the Trade Act of 1974 and section 2104(b)(2) of the Trade Act of 2002.

FOR FURTHER INFORMATION CONTACT: Information specific to these investigations may be obtained from Tracy Quilter (202-205-3437; tracy.quilter@usitc.gov) or Falan Yinug (202-205-2160; falan.yinug@usitc.gov), Office of Industries, United States International Trade Commission, Washington, DC 20436. For information on the legal aspects of these investigations, contact William Gearhart of the Office of the General Counsel (202-205-3091; william.gearhart@usitc.gov). General information concerning the Commission may also be obtained by accessing its Internet server (http://www.usitc.gov).

Background

On February 12, 2004, the USTR notified the Congress of the President's intent to initiate free trade agreement negotiations with Thailand. Accordingly, the USTR, pursuant to section 131 of the Trade Act of 1974 (19 U.S.C. 2151), requested the Commission to provide a report including advice as to the probable economic effect of providing duty-free treatment for imports of products of Thailand (i) on industries in the United States producing like or directly competitive products, and (ii) on consumers. In preparing the advice, the Commission's analysis will consider each article in chapters 1 through 97 of the Harmonized Tariff Schedule of the United States for which U.S. tariffs will remain after the United States fully implements its Uruguay Round tariff commitments. The import advice will be based on the 2004 Harmonized Tariff System nomenclature and 2003 trade data. The advice with respect to the removal of U.S. duties on imports from Thailand will assume that any known U.S. nontariff barrier will not be applicable to such imports. The Commission will note in its report any instance in which the continued application of a U.S. nontariff barrier to such imports would result in different advice with respect to the effect of the removal of the duty.

Also as requested, pursuant to section 2104(b)(2) of the Trade Act of 2002 (19 U.S.C. 3804(b)(2)), the Commission will provide advice as to the probable economic effect of eliminating tariffs on imports of certain agricultural products of Thailand on (i) industries in the United States producing the product concerned, and (ii) the U.S. economy as a whole.

The Commission expects to provide its report to the USTR by August 19, 2004. The USTR indicated that the Commission's report will be classified and that USTR considered it to be an interagency memorandum containing pre-decisional advice and subject to the deliberative process privilege.

Public Hearing

A public hearing in connection with these investigations is scheduled to begin at 9:30 a.m. on April 20, 2004, at the U.S. International Trade Commission Building, 500 E Street, SW., Washington, DC. Requests to appear at the public hearing should be filed with the Secretary, no later than 5:15 p.m., April 2, 2004, in accordance with the requirements in the “Submissions” section below. In the event that, as of the close of business on April 2, 2004, no witnesses are scheduled to appear, the hearing will be canceled. Any person interested in attending the hearing as an observer or non-participant may call the Secretary (202-205-2000) after April 2, 2004, to determine whether the hearing will be held.

Statements and Briefs

In lieu of or in addition to participating in the hearing, interested parties are invited to submit written statements or briefs concerning these investigations in accordance with the requirements in the “Submissions” section below. Any prehearing briefs or statements should be filed not later than 5:15 p.m., April 6, 2004; the deadline for filing post-hearing briefs or statements is 5:15 p.m., April 27, 2004.

Submissions

All written submissions including requests to appear at the hearing, statements, and briefs should be addressed to the Secretary, United States International Trade Commission, 500 E Street, SW., Washington, DC 20436. All written submissions must conform with the provisions of section 201.8 of the Commission's rules of practice and procedure (19 CFR 201.8); any submissions that contain confidential business information must also conform with the requirements of section 201.6 of the Commission's rules of practice and procedure (19 CFR 201.6). Section 201.8 of the rules require that a signed original (or a copy designated as an original) and fourteen (14) copies of each document be filed.

In the event that confidential treatment of the document is requested, at least four (4) additional copies must be filed, in which the confidential information must be deleted. Section 201.6 of the rules requires that the cover of the document and the individual pages be clearly marked as to whether they are the “confidential” or “nonconfidential” version, and that the confidential business information be clearly identified by means of brackets.

All written submissions, except for confidential business information, will be made available for inspection by interested parties. The Commission may include confidential business information submitted in the course of these investigations in the report it sends to the USTR. However, should the Commission publish a public version of this report, such confidential business information will not be published in a manner that would reveal the operations of the firm supplying the information.

The Commission's rules do not authorize filing submissions with the Secretary by facsimile or electronic means, except to the extent permitted by section 201.8 of the Commission's rules of practice and procedure (19 CFR 201.8) (see Handbook for Electronic Filing Procedures, ftp://ftp.usitc.gov/pub/reports/electronic_filing_handbook.pdf). Persons with questions regarding electronic filing should contact the Secretary (202-205-2000 or edis@usitc.gov).

The public record for these investigations may be viewed on the Commission's electronic docket (EDIS) at http://edis.usitc.gov. Hearing-impaired individuals are advised that information on this matter can be obtained by contacting our TDD terminal on (202) 205-1810. Persons with mobility impairments who will need special assistance in gaining access to the Commission should contact the Secretary at 202-205-2000.

List of Subjects

Thailand, tariffs, and imports.

By order of the Commission.
Issued: March 4, 2004.
Marilyn R. Abbott,
Secretary to the Commission.

[FR Doc. 04-5296 Filed 3-8-04; 8:45 am]

BILLING CODE 7020-02-P